DEPARTMENT OF AGRICULTURE

Forest Service

Keystone-Quartz Ecosystem Management Project, Beaverhead-Deerlodge National Forests, Beaverhead County, MT

AGENCY: Forest Service, USDA.

ACTION: Notice; intent to prepare a supplement to the Environmental Impact Statement.

SUMMARY: The Forest Service will prepare a supplement to the final Environmental Impact Statement to document additional soils analysis and disclose the environmental impacts to the soils resource of the preferred alternative to manipulate forest and range vegetation on 684 acres. The Preferred Alternative 6 would thin and prescribe burn 540 acres of Douglas-fir forest to restore open Douglas-fir forest habitat, release 58 acres of aspen/shrub to restore aspen/shrub communities, thin 19 acres of dense lodgepole pine to improve overall forest health, and restore shrub/grass habitat by removal of small conifers and prescribed burning on 67 acres of shrub/grass habitat that has been lost to conifer succession. Forest product recovery would occur on 58 acres to remove the large conifers (aspen/shrub release only); on 260 acres to remove special forest products (small diameter trees), and on 19 acres to remove post and pole size lodgepole pine. Slashing would remove smaller conifers in most treatment areas as a pre-treatment prior to prescribed burning. Existing roads would be used and no new roads would be built. This area lies at the northern end of the Pioneer Mountains, three miles south of Wise River, Montana. The prior notice of intent for this proposed action appeared in the Federal Register on April 9, 1999, 64 FR 17310-11. The NOA for the DEIS appeared on April 6, 2001, 66 FR 18243. A Final Environmental Impact Statement and a Record of Decision were issued on December 3, 2001. The legal notice of the Record of Decision for the FEIS appeared on the Montana Standard on December 31, 2001. The decision was appealed, and later reversed on March 15, 2002.

DATES: Initial comments concerning the supplement to the EIS should be received in writing no later than 30 days after the publication of this NOI in the Federal Register.

ADDRESSES: The responsible official is the District Ranger, Beaverhead-Deerlodge National Forest, Dillon, Montana. Please send comments to Charlie Hester, District Ranger, Wise River Ranger District, P.O. Box 100, Wise River, MT 59762. Comments may be electronically submitted to r1_b-d_comments@fs.fed.us.

FOR FURTHER INFORMATION CONTACT: Jeff Trejo, project leader, P.O. Box 100, Wise River, MT or phone (406) 832-3178 or by e-mail to jtrejo@fs.fed.us. People may visit with Forest Service officials at any time during the analysis and prior to the decision.

The draft supplement to the EIS is anticipated to be available for review in January 2003. The final supplement to the EIS is planned for completion in April 2003.

The Environmental Protection Agency will publish the notice of availability of the draft supplement to the environmental impact statement in the Federal Register. The Forest will also publish a legal notice of its availability in the Montana Standard Newspaper, Butte, Montana. A 45-day comment period on the draft supplement to the Environmental Impact Statement will begin the day following the publication of the legal notice.

The Forest Service believes, at this early stage, it is important to give reviewers notice of several court rulings related to public participation in the environmental review process. First, reviewers of draft supplement to the Environmental Impact Statement must structure their participation in the environmental review of the preferred alternative so that it is meaningful and alerts an agency to the reviewer's position and contentions. Vermont Yankee Nuclear Power Corp. v. NRDC, 435 U.S. 519,553 (1978). Also, environmental objections that could be raised at the draft supplement to the environmental impact statement stage but that are not raised until after completion of the final supplement to the environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final supplement to the Environmental Impact Statement.

To assist the Forest Service in identifying and considering issues and concerns, comments on the draft supplement to the Environmental Impact Statement should be as specific as possible. It is also helpful if comments refer to specific pages of the draft supplement. Reviewers may wish to refer to the Council on Environmental Quality Regulations for implementing the procedural provisions of the National Environmental Policy Act at 40 CFR 1503.3 in addressing these points.

The responsible official will make the decision on this proposal after considering comments and responses, environmental consequences discussed in the final supplement to the EIS, the EIS, applicable laws, regulations, and policies. The decision and reasons for the decision will be documented in a Record of Decision.

Dated: December 2, 2002.
Thomas K. Reilly,
Forest Supervisor.

[FR Doc. 02-30980 Filed 12-6-02; 8:45 am]

BILLING CODE 3410-11-M